DEPARTMENT OF LABOR

Employment and Training Administration

Announcement Regarding the Virgin Islands Triggering “Off” Tier Three of Emergency Unemployment Compensation 2008 (EUC08)

AGENCY: Employment and Training Administration, Labor.

ACTION: Notice.

SUMMARY: Announcement regarding the Virgin Islands triggering “off” Tier Three of Emergency Unemployment Compensation 2008 (EUC08).

Public Law 111-312 extended provisions in Public Law 111-92 which amended prior laws to create a Third and Fourth Tier of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp.

Based on data published January 25, 2011, by the Bureau of Labor Statistics, the following trigger change has occurred for the Virgin Islands' EUC08 program:

• The seasonally-adjusted total unemployment rate for the 3-month period ending December 2010 for the Virgin Islands fell below the 6.0% threshold to remain “on” Tier Three of the EUC08 program. The payable period for the Virgin Islands in Tier Three of the EUC08 program concluded February 26, 2011. As a result, the maximum potential entitlement of 47 weeks will decrease to a maximum potential entitlement of 34 weeks in the EUC08 program.

Information for Claimants

The duration of benefits payable in the EUC program, and the terms and conditions under which they are payable, are governed by Public Laws 110-252, 110-449, 111-5, 111-92, 111-118, 111-144, 111-157, 111-205 and 111-312, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Unemployment Insurance, 200 Constitution Avenue, NW., Frances Perkins Bldg. Room S-4231, Washington, DC 20210, telephone number (202) 693-3008 (this is not a toll-free number) or by e-mail: gibbons.scott@dol.gov.

Signed in Washington, DC, this 9th day of March 2011.
Jane Oates,
Assistant Secretary, Employment and Training Administration.

[FR Doc. 2011-6026 Filed 3-14-11; 8:45 am]

BILLING CODE 4510-FW-P